DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of July 6, 2010 through July 9, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1- year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,319 | General Motors Company, formerly known as General Motors Corporation, Willow Run Transmission Plant | Ypsilanti, MI | September 14, 2008.
72,436 | Special Tool Engineering, Inc | Fraser, MI | September 7, 2008.
72,582 | General Motors Corporation, Powertrain Flint North; Leased Workers from Allegis Group Services | Flint, MI | October 2, 2008.
72,647 | Graphic Packaging International, Inc., Graphic Packaging Holding Company; Flexible/Multiwall Bag Division | Wellsburg, WV | October 21, 2008.
72,692 | ITW/St. Jude Polymer, Signode CPO Plastics, Illinois Tool Works, Leased Workers Workforce, etc | Frackville, PA | October 27, 2008.
73,204 | The Tie King, Incorporated | Brooklyn, NY | December 17, 2008.
73,297 | The Sherwin Williams Company | Deshler, OH | January 5, 2009.
73,724 | Rhinestahl Corporation, On-site leased workers from Staffmark Services | Cincinnati, OH | March 15, 2009.
73,915 | ITW Shippers Products, Illinois Tool Works; Leased Workers from Randstad and All Staff | Mt. Pleasant, TN | April 14, 2009.
74,048 | Cedar Creek Corporation | High Point, NC | May 4, 2009.
74,056 | K & C | San Francisco, CA | April 27, 2009.

The following certifications have been issued. The requirements of Section 222(a)(2)(B) (shift in production or services) of the Trade Act have been met.

TA-W No. | Subject firm | Location | Impact date
72,096 | Amphenol Antenna Solutions, FKA Jaybeam Wireless. Subsidiary Amphenol Corp. Leased workers Manpower, etc | Hickory, NC | August 14, 2008.
72,148 | Spansion, LLC, Spansion, Inc.; Leased Workers of Volt Staffing Agency | Sunnyvale, CA | August 26, 2008.
72,608 | Quark, Inc., Technical Support Division | Denver, CO | October 13, 2008.
72,770 | DEX One Corporation, R.H. Donnelley Corporation; Dex Media Division | Bellevue, WA | October 23, 2008.
72,770A | DEX One Corporation, R.H. Donnelley Corporation; Dex Media Division | Omaha, NE | October 23, 2008.
72,770B | DEX One Corporation, R.H. Donnelley Corporation; Dex Media Division | Phoenix, AZ | October 23, 2008.
72,770C | DEX One Corporation, R.H. Donnelley Corporation; Dex Media Division | Beaverton, OR | October 23, 2008.
72,770D | DEX One Corporation, R.H. Donnelley Corporation; Dex Media Division | Murray, UT | October 23, 2008.
72,876 | Electronic Data Systems, Subsidiary of Hewlett-Packard Company; Consulting Services | Flint, MI | November 12, 2008.
73,500 | Franklin Electric Co., Inc | Siloam Springs, AR | February 13, 2010.
73,712 | Fiserv Fulfillment Services, Inc., Div. of ISGN Solutions, Inc., leased workers Spherion, Dolphin Staffing, etc | St. Louis Park, MN | March 10, 2009.
73,822 | Ingersoll Rand, On-site leased workers from Manpower | Athens, PA | March 29, 2009.
73,843 | Hasbro, Inc., Hasbro Managerial Services, Inc | East Longmeadow, MA | April 1, 2009.
73,843A | Reliable Temp Agency, Working on-site at Hasbro, Inc | East Longmeadow, MA | April 1, 2009.
73,962 | Ford Motor Credit Company, LLC, Nashville Business Center | Franklin, TN | April 12, 2009.
74,113 | Serena Software, Inc., Research and Development | Bellevue, WA | April 29, 2009.
74,128 | Oki Data Americas, Inc., Information Technology Division, Leased workers from Technology Services LLC | Mount Laurel, NJ | May 20, 2009.
74,255 | Ford Motor Credit Company, LLC, Ford Credit, Greenville Business Center | Greenville, SC | June 7, 2009.
74,257 | Hewlett Packard Company, Finance Division, Leased Workers On and Off-Sites at Multiple Locations | Palo Alto, CA | May 16, 2009.
74,257A | Hewlett Packard Company, Finance Division, Leased Workers and Teleworkers Across California | Cupertino and Other Cities, CA | May 16, 2009.
74,257B | Hewlett Packard Company, Finance Division, Leased Workers and Workers On-Sites at Multiple Locations | Colorado Springs and Other Cities, CO | May 16, 2009.
74,257C | Hewlett Packard Company, Finance Division, Leased Workers and Teleworkers Across Connecticut | State Wide, CT | May 16, 2009.
74,257D | Hewlett Packard Company, Finance Division, Leased Workers and Teleworkers Across Florida | Miami, FL | May 16, 2009.
74,257E | Hewlett Packard Company, Finance Division, Leased Workers and Teleworkers Across Georgia | Alpharetta, GA | May 16, 2009.
74,257F | Hewlett Packard Company, Finance Division, Leased Workers and Teleworkers Across Boise | Boise, ID | May 16, 2009.
74,257G | Hewlett Packard Company, Finance Division, Leased Workers and Teleworkers Across Massachusetts | Andover and Others Cities, MA | May 16, 2009.
74,257H | Hewlett Packard Company, Finance Division, Leased Workers and Workers On-Site | Bethesda, MD | May 16, 2009.
74,257I | Hewlett Packard Company, Finance Division, Leased Workers and Workers On-Site | Minnetonka, MN | May 16, 2009.
74,257J | Hewlett Packard Company, Finance Division, Leased Workers and Workers On-Site In | Omaha, NE | May 16, 2009.
74,257K | Hewlett Packard Company, Finance Division, Leased Workers and Teleworkers Across New Hampshire | State Wide, NH | May 16, 2009.
74,257L | Hewlett Packard Company, Finance Division, Leased Workers and Workers On-Site In | New Providence, NJ | May 16, 2009.
74,257M | Hewlett Packard Company, Finance Division, Leased Workers and Teleworkers Across North Carolina | Charlotte, NC | May 16, 2009.
74,257N | Hewlett Packard Company, Finance Division, Leased Workers and Workers On-Site In | Corvallis, OR | May 16, 2009.
74,257O | Hewlett Packard Company, Finance Division, Leased Workers and Teleworkers Across Pennsylvania | State Wide, PA | May 16, 2009.
74,257P | Hewlett Packard Company, Finance Division, Leased Workers and Teleworkers Across Texas, On-Site in | Austin and Other Cities, TX | May 16, 2009.
74,257Q | Hewlett Packard Company, Finance Division, Leased Workers and Workers On-Site In | Herndon, VA | May 16, 2009.
74,257R | Hewlett Packard Company, Finance Division, Leased Workers and Workers On-Site In | Vancouver, WA | May 16, 2009.

The following certifications have been issued. The requirements of Section 222(c) (supplier to a firm whose workers are certified eligible to apply for TAA) of the Trade Act have been met.

TA-W No. | Subject firm | Location | Impact date
73,073 | Ventra Belvidere, LLC, Leased Workers from Placement Pros | Belvidere, IL | December 9, 2008.
73,392 | ABB Paint Finishing, Incorporated, Subsidiary of ABB, LTD, on-site leased workers from Beeline Corporation | Pontiac, MI | January 14, 2009.

The following certifications have been issued. The requirements of Section 222(c) (downstream producer for a firm whose workers are certified eligible to apply for TAA) of the Trade Act have been met.

TA-W No. | Subject firm | Location | Impact date
73,738 | Allied Systems, Ltd | Fremont, CA | March 17, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
73,634 | Republic Engineered Products, Inc., Canton Plant | Canton, OH. |

The investigation revealed that the criteria under paragraphs(a)(2)(A) (increased imports) and (a)(2)(B) (shift in production or services to a foreign country) of section 222 have not been met.

TA-W No. | Subject firm | Location | Impact date
72,076 | Hapag-Lloyd (America), Inc., Headquarters | Piscataway, NJ. |
72,825 | Guardian Automotive Products, Inc., A Division of Guardian Industries Corporation | Upper Sandusky, OH. |
72,990 | Reliant Machine, Inc | Green Bay, WI. |
73,055 | Nuart, Inc., Taylor Corporation; Leased Workers from Volt Workforce Services | Bedford Park, IL. |
73,113 | FXI—Foamex Innovations, FKA Foamex International, Inc., Automotive Products Group | Novi, MI. |
73,473 | Westar Transportation, Inc | Wichita Falls, TX. |
73,487 | Sonnie's | Woodbury, MN. |
73,514 | Edward W. Daniel, LLC | Cleveland, OH. |
73,779 | Portland Title Group, Fidelity National Financial | Beaverton, OR. |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
73,599 | Forreston Tool, Inc | Forreston, IL. |
73,977 | The Flint Journal | Flint, MI. |

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
74,163 | HSBC Household Beneficial | Huber Heights, OH. |
74,314 | Goodyear Tire and Rubber Company, Tyler Plant | Tyler, TX. |

The following determinations terminating investigations were issued because the petitioning groups of workers are covered by active certifications. Consequently, further investigation in these cases would serve no purpose since the petitioning group of workers cannot be covered by more than one certification at a time.

TA-W No. | Subject firm | Location | Impact date
73,544 | Premier Manufacturing Support Services, Inc | Fremont, CA

The following determinations terminating investigations were issued because the petitions are the subject of ongoing investigations under petitions filed earlier covering the same petitioners.

TA-W No. | Subject firm | Location | Impact date
74,249 | Hoffman-LaRoche, Inc | Nutley, NJ. |
74,330 | San Francisco Chronicle | Union City, CA. |
74,338 | Madison County Employment and Training | Wood River, IL

I hereby certify that the aforementioned determinations were issued during the period of July 6, 2010 through July 9, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: July 16, 2010.
Michael W. Jaffe,
Certifying Officer, Division of Trade Adjustment Assistance.

[FR Doc. 2010-18183 Filed 7-23-10; 8:45 am]

BILLING CODE 4510-FN-P